DEPARTMENT OF DEFENSE

Office of the Secretary

[Docket ID: DoD-2025-OS-0474]

U.S. Court of Appeals for the Armed Forces Proposed Rules Changes; Correction

AGENCY: Office of the Secretary, Department of Defense (DoD).

ACTION: Notice of proposed changes to the Rules of Practice and Procedure of the United States Court of Appeals for the Armed Forces; correction.

SUMMARY: On August 20, 2025, the DoD published a notice titled U.S. Court of Appeals for the Armed Forces Proposed Rules Changes. Subsequent to publication of the notice, the DoD discovered three typographical errors. This notice corrects these errors. All other information in the August 20, 2025 notice remains the same.

DATES: This correction is effective on September 3, 2025.

FOR FURTHER INFORMATION CONTACT: Malcolm H. Squires, Jr., Clerk of the Court, telephone (202) 761-1448.

SUPPLEMENTARY INFORMATION: On August 20, 2025 (90 FR 40592-40593), the DoD published a notice titled U.S. Court of Appeals for the Armed Forces Proposed Rules Changes.

On page 40593, in the first column, in the third line, “Apellate” is changed to read “Appellate”.

On page 40593, in the first column, in the 14th and 15th lines, “The proposed change to Rule 19 would read:” is changed to “The proposed change to Rule 22 would read:”.

On page 40593, in the first column, in the 33rd line, “Apellate” is changed to read “Appellate”.

Dated: August 29, 2025.
Aaron T. Siegel,
Alternate OSD Federal Register Liaison Officer, Department of Defense.

[FR Doc. 2025-16896 Filed 9-2-25; 8:45 am]

BILLING CODE 6001-FR-P